DEPARTMENT OF HEALTH AND HUMAN SERVICES

Administration for Children and Families

Proposed Information Collection Activity; Comment Request

Proposed Projects

Title: Family Violence Prevention and Services: Grants to States; Native American Tribes and Alaskan Native Villages; and State Domestic Violence Coalitions.

OMB No.: 0970-0280.

Description: The Family Violence Prevention and Services Act (FVPSA), as amended, authorizes the Department of Health and Human Services to award grants to States, Tribes—and Tribal Organizations, and State Domestic Violence Coalitions for family violence prevention and intervention activities. The proposed information collection activities will be used to make grant award decisions and to monitor grant performance.

Respondents: State Agencies Administering FVPSA Grants; Tribal Governments and Tribal Organizations; and State Domestic Violence Coalitions.

Annual Burden Estimates
Instrument | Number of respondents | Number of responses per respondent | Average burden hours per response | Total burden hours
State Grant Application | 53 | 1 | 10 | 530
Tribal Grant Application | 200 | 1 | 5 | 1,000
State Domestic Violence Coalition Application | 52 | 1 | 10 | 520
State FVPSA Grant Performance Progress Report | 53 | 1 | 10 | 530
Tribal FVPSA Grant Performance Progress Report | 200 | 1 | 10 | 2,000
State Domestic Violence Coalition FVPSA Grant Performance Progress Report | 52 | 1 | 10 | 520
Estimated Total Annual Burden Hours: |  |  |  | 3,700

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 7, 2008.
Janean Chambers,
Reports Clearance Officer.

[FR Doc. E8-7817 Filed 4-14-08; 8:45 am]

BILLING CODE 4184-01-M